DEPARTMENT OF ENERGY

Federal Energy Regulatory Commission

[Docket No. EL05-78-000]

New York Independent System Operator, Inc.; Notice of Institution of Proceeding and Refund Effective Date

April 1, 2005.

On March 25, 2005, the Commission issued an order initiating a proceeding in Docket No. EL05-78-000 under section 206 of the Federal Power Act concerning the continued justness and reasonableness of New York Independent System Operator, Inc.'s previously accepted rate filing with respect to Long Island Power Authority's collection of State taxes from municipal entities and its double collection for transmission losses. New York Independent System Operator, Inc. 110 FERC ¶ 61,359 (2005).

The refund effective date in Docket No. EL05-78-000, established pursuant to section 206 of the Federal Power Act, will be 60 days following publication of this notice in the Federal Register.

Magalie R. Salas,
Secretary.

[FR Doc. E5-1629 Filed 4-7-05; 8:45 am]

BILLING CODE 6717-01-P